ENVIRONMENTAL PROTECTION AGENCY

[ER-FRL-9049-9]

Environmental Impact Statements; Notice of Availability

Responsible Agency: Office of Federal Activities, General Information 202-564-5632 or https://www.epa.gov/NEPA.

Weekly receipt of Environmental Impact Statements (EIS)

Filed March 9, 2020, 10 a.m. EST Through March 16, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200067, Draft, NRC, NM, Holtec International's License Application for a Consolidated Interim Storage Facility for Spent Nuclear Fuel and High Level Waste, Comment Period Ends: 05/22/2020, Contact: Jill Caverly 301-415-7674.

EIS No. 20200068, Draft, NMFS, MA, Northeast Multispecies Fishery Management Plan Draft Amendment 23, Comment Period Ends: 05/19/2020, Contact: Mark Grant 978-281-9145.

EIS No. 20200069, Draft, BLM, NV, Yellow Pine Solar Project, Comment Period Ends: 05/04/2020, Contact: Augrelio Herman Pinales 702-515-5284.

EIS No. 20200070, Draft Supplement, BLM, AK, Willow Master Development Plan Environmental Impact Statement Supplement to the Draft, Comment Period Ends: 05/04/2020, Contact: Racheal Jones 907-290-0307.

Dated: March 17, 2020.
Cindy S. Barger,
Director, NEPA Compliance Division, Office of Federal Activities.

[FR Doc. 2020-05882 Filed 3-19-20; 8:45 am]

BILLING CODE 6560-50-P